OVERSEAS PRIVATE INVESTMENT CORPORATION

Sunshine Act Meeting; April 21, 2005 Public Hearing

OPIC's Sunshine Act notice of its Public Hearing in Conjunction with each board meeting was published in the Federal Register (Volume 70, Number 65, Page 17482) on April 6, 2005. No requests were received to provide testimony or submit written statements for the record; therefore, OPIC's public hearing in conjunction with OPIC's April 28, 2005 Board of Directors meeting scheduled for 10 a.m. on April 28, 2005 has been cancelled.

Contact Person for Information: Information on the hearing cancellation may be obtained from Connie M. Downs at (202) 336-8438, via facsimile at (202) 218-0136, or via e-mail at cdown@opic.gov.

Dated: April 20, 2005.
Connie M. Downs,
OPIC Corporate Secretary.

[FR Doc. 05-8182 Filed 4-20-05; 10:47 am]

BILLING CODE 3210-01-M